PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995.

DATES: Submit comments on or before May 20, 2024.

ADDRESSES: Comments should be addressed to James Olin, FOIA/Privacy Act Officer. James Olin can be contacted by email at pcfr@peacecorps.gov or by phone at (202) 692-2507. Email comments must be made in text and not in attachments.

FOR FURTHER INFORMATION CONTACT: James Olin at the Peace Corps address above or by phone at (202) 692-2507.

SUPPLEMENTARY INFORMATION:

Title: Annual Coverdale Fellows Interest Survey.

OMB Control Number: 0420-***.

Type of Request: New.

Affected Public: Individuals.

Respondents Obligation to Reply: Voluntary.

Burden to the Public:

Estimated burden (hours) of the collection of information:

a. Number of respondents: 9,000.

b. Frequency of response: 1 time.

c. Completion time: 5 minutes.

d. Annual burden hours: 750 hours.

General Description of Collection: The Paul D. Coverdell Fellows program is a graduate school benefit for returned Peace Corps Volunteers (RPCVs). The program, managed by the Peace Corps Office of University Programs, is made in formal partnership with graduate degree granting educational institutions across the United States. The partnering institutions are required to offer financial support to RPCVs who, in turn, complete substantive internships related to their program of study in underserved communities in the United States. This survey will inform the Peace Corps if the current selection of Coverdell Fellows Programs available are meeting the demand of RPCVs, and inform how to make strategic decisions of the future of the Coverdell Fellows Program.

Request for Comment: The Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on March 18, 2024.
James Olin,
FOIA/Privacy Act Officer.

[FR Doc. 2024-05997 Filed 3-20-24; 8:45 am]

BILLING CODE 6051-01-P